SECURITIES AND EXCHANGE COMMISSION

Issuer Delisting; Notice of Application To Withdraw From Listing and Registration; (Massey Energy Company, Common Stock, $.625 Par Value) File No. 1-0777-5

January 19, 2001.

Massey Energy Company (formerly known as Fluor Corporation) (“Company”) has filed applications with the Securities and Exchange Commission (“Commission”), pursuant to section 12(d) of the Securities Exchange Act of 1934 (“Act”)¹ and Rule 12d2-2(d) thereunder,² to withdraw its Common Stock, $.625 par value (“Security”), from listing and registration on the Pacific Exchange, Inc. (“PCX”) and on the Chicago Stock Exchange, Inc. (“CHX”).³

¹ 15 U.S.C. 78l(d).

² 17 CFR 240.12d2-2(d).

³ Notice of this application was previously issued by the Commission as Securities Exchange Act Release No. 43820 on January 8, 2001. Such notice, however, failed to appear in the Federal Register, as required, and so is being reissued.

As described in its application to the Commission, on November 30, 2000, the Company completed a reverse spin-off, which divided the Company into two publicly traded corporations. As a result of this action, the spun-off corporation, “new” Fluor Corporation, owns all of the businesses of the predecessor corporation except that of A.T. Massey Coal Company, Inc., which, continuing as the successor to “old” Fluor Corporation, has been renamed Massey Energy Company.

In connection with this spin-off, the Company has determined to consolidate the listings for its Security to one national securities exchange. In addition to being listed on the PCX and CHX, the Security is currently listed on the New York Stock Exchange, Inc. (“NYSE”). The Company desires to continue only the NYSE listing.

The Company has stated in its application that it has complied with the respective rules of the PCX and CHX governing the withdrawal of a security by its issuer and that both the PCX and the CHX have in turn indicated that they will not oppose such proposed withdrawals. The Company's application shall not have any effect on the Security's continued listing on the NYSE or on its registration under Section 12(b) of the Act.⁴

⁴ 15 U.S.C. 78l(b).

Any interested person may, on or before February 9, 2001, submit by letter to the Secretary of the Securities and Exchange Commission, 450 Fifth Street, N.W., Washington, D.C. 20549-0609, facts bearing upon whether the application has been made in accordance with the respective rules of the PCX and CHX and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 01-2242 Filed 1-24-01; 8:45 am]

BILLING CODE 8010-01-M